DEPARTMENT OF ENERGY

Federal Energy Regulatory Commission

[Docket No. ER01-1515-001]

Duke Energy Audrain, LLC; Notice of Filing

April 27, 2001.

Take notice that on April 9, 2001, Duke Energy Audrain, LLC (Duke Audrain) filed a revision to its proposed FERC Electric Tariff Original Volume No. 1 (Tariff), clarifying that all market information shared between Duke Audrain and any public utility with a franchised service territory that is an affiliate of Duke Audrain will be disclosed simultaneously to the public and correcting tariff designations. No other changes were made to the Tariff or to Duke Audrain's Application for Order Accepting Market Based Rates for Filing and Certain Waivers and Pre-Approvals, filed in Docket No. ER01-1208-000 on March 13, 2001.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before May 7, 2001. Protests will be considered by the Commission to determine the appropriate action to be taken, but will not serve to make protestants parties to the proceedings. Any person wishing to become a party must file a motion to intervene. Copies of this filing are on file with the Commission and are available for public inspection. This filing may also be viewed on the Internet at http://www/ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-11055 Filed 5-2-01; 8:45 am]

BILLING CODE 6717-01-M